DEPARTMENT OF THE INTERIOR

National Park Service

[NPS-PWR-KAHO-11858; PPPWKAHO00, PPMPSPD1Z.YM0000]

Notice of February 22; May 17; August 23; and November 8, 2013, Meetings for Na Hoa Pili O Kaloko-Honokohau National Historical Park Advisory Commission

AGENCY: National Park Service, Interior.

ACTION: Meeting Notice.

SUMMARY: This notice sets forth the dates of the February 22; May 17; August 23; and November 8, 2013, meetings of the Na Hoa Pili O Kaloko-Honokohau National Historical Park Advisory Commission.

DATES: The public meetings of the Advisory Commission will be held on Fridays, February 22; May 17; August 23; and November 8, 2013, at 11:00 a.m. (HAWAII STANDARD TIME).

Location: The meetings will be held at the Kaloko-Honokohau National Historical Park Kaloko Picnic Area, north of Honokohau Harbor, Kailua Kona, HI 96740.

Agenda

The February 22; May 17; August 23; and November 8, 2013, Commission meetings will consist of the following:

1. Approval of Agenda.

2. Chairman's Report.

3. Superintendent's Report.

4. Subcommittee Reports.

5. Commission Recommendations.

6. Public Comments.

FOR FURTHER INFORMATION CONTACT: Further information concerning these meetings may be obtained from the Superintendent Kathleen Billings, Kaloko-Honkohau National Historical Park, 73-4786 Kanalani Street, #14, Kailua Kona, HI 96740, telephone (808) 329-6881.

SUPPLEMENTARY INFORMATION: The meetings are open to the public. Interested persons may make oral/written presentations to the Commission or file written statements. Such requests should be made to the Superintendent at least seven days prior to the meetings. Before including your address, phone number, email address, or other personal identifying information in your comment, you should be aware that your entire comment-including your personal identifying information-may be made publicly available at any time. While you can ask us in your comment to withhold your personal identifying information from public review, we cannot guarantee that we will be able to do so.

Dated: December 14, 2012.
Kathleen J. Billings,
Superintendent, Kaloko-Honokohau National Historical Park.

[FR Doc. 2012-31430 Filed 12-28-12; 8:45 am]

BILLING CODE 4312-FF-P